SMALL BUSINESS ADMINISTRATION

[License No. 02/02-0700]

RCS SBIC Fund II, L.P.; Notice Seeking Exemption Under Section 312 of the Small Business Investment Act, Conflicts of Interest

Notice is hereby given that RCS SBIC Fund II, L.P., 800 Boylston Street, Boston, MA 02199, a Federal Licensee under the Small Business Investment Act of 1958, as amended (“the Act”), in connection with the financing of two small concerns, has sought an exemption under section 312 of the Act and section 107.730, Financings which Constitute Conflicts of Interest of the Small Business Administration (“SBA”) Rules and Regulations (13 CFR 107.730). RCS SBIC Fund II, L.P. proposes to purchase assets from an Associate, Riverside Investment Management Company, LLC.

The financings are brought within the purview of § 107.730(a)(4) of the Regulations because RCS SBIC Fund II, L.P., will purchase from Riverside Investment Management Company, LLC, at the amortized cost basis of each, securities issued by two Small Businesses: Oak Electric Service Intermediate, LLC; and Stratus Technology Services, L.L.C. Because Riverside Investment Management Company, LLC, is an Associate of RCS SBIC Fund II, L.P., this transaction is considered a conflict of interest requiring prior SBA approval.

Notice is hereby given that any interested person may submit written comments on the transaction, within fifteen days of the date of this publication, to the Associate Administrator for Investment, U.S. Small Business Administration, 409 Third Street SW, Washington, DC 20416.

Bailey G. DeVries,
Associate Administrator, Office of Investment and Innovation, U.S. Small Business Administration.

[FR Doc. 2024-00019 Filed 1-4-24; 8:45 am]

BILLING CODE P